DEPARTMENT OF THE INTERIOR

Office of Surface Mining Reclamation and Enforcement

[S1D1S SS08011000 SX064A000 189S180110; S2D2S SS08011000 SX064A000 18XS501520; OMB Control Number 1029-0129]

Agency Information Collection Activities: Submission to the Office of Management and Budget for Review and Approval; Reclamation Awards

AGENCY: Office of Surface Mining Reclamation and Enforcement, Interior.

ACTION: Notice of information collection; request for comment.

SUMMARY: In accordance with the Paperwork Reduction Act of 1995, we, the Office of Surface Mining Reclamation and Enforcement (OSMRE) are proposing to renew an information collection for the Excellence in Surface Coal Mining Reclamation Award and the Abandoned Mine Land Reclamation Awards. These awards have been established to give well-earned public recognition to those responsible for the nation's highest achievements in abandoned mine land reclamation, and who have developed innovative reclamation techniques or who have completed reclamation that resulted in outstanding on-the-ground performance.

DATES: Interested persons are invited to submit comments on or before June 14, 2018.

ADDRESSES: Send written comments on this information collection request (ICR) to the Office of Management and Budget's Desk Officer for the Department of the Interior by email at OIRA_Submission@omb.eop.gov; or via facsimile to (202) 395-5806. Please provide a copy of your comments to John Trelease, Office of Surface Mining Reclamation and Enforcement, 1849 C. Street NW, Mail Stop 4559, Washington, DC 20240; or by email to jtrelease@osmre.gov. Please reference OMB Control Number 1029-0039 in the subject line of your comments.

FOR FURTHER INFORMATION CONTACT: To request additional information about this ICR, contact John Trelease by email at jtrelease@osmre.gov, or by telephone at (202) 208-2783. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provides the requested data in the desired format.

A Federal Register notice with a 60-day public comment period soliciting comments on this collection of information was published on January 31, 2018 (83 FR 4514). No comments were received.

We are again soliciting comments on the proposed ICR that is described below. We are especially interested in public comment addressing the following issues: (1) Is the collection necessary to the proper functions of OSMRE; (2) is the estimate of burden accurate; (3) how might OSMRE enhance the quality, utility, and clarity of the information to be collected; and (4) how might OSMRE minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Title: Reclamation Awards—Call for Nominations.

OMB Control Number: 1029-0129.

Abstract: This information collection clearance package is being submitted by the Office of Surface Mining Reclamation and Enforcement (OSMRE) for renewed approval to collect information for our annual call for nominations for our Excellence in Surface Coal Mining Reclamation Awards and Abandoned Mine Land Reclamation Awards. Since 1986, the Office of Surface Mining has presented awards to coal mine operators who completed exemplary active reclamation. A parallel award program for abandoned mine land reclamation began in 1992. The objective is to give public recognition to those responsible for the nation's most outstanding achievement in environmentally sound surface mining and land reclamation and to encourage the exchange and transfer of successful reclamation technology. This collection request seeks a three-year term of approval.

Form Number: None.

Type of Review: Extension of a currently approved collection.

Respondents/Affected Public: Industry and state/tribal nominees for reclamation awards and state/tribal reviewers and judges.

Total Estimated Number of Annual Respondents: 14 active mine respondents, 11 abandoned mine land state/tribal respondents, and 40 state and tribal reviewers and judges.

Total Estimated Number of Annual Responses: 65.

Estimated Completion Time per Response: An average of 17 hours per coal producer, 67 hours per State/Tribal nominee, and 2 hours to 8 hours per State/Tribe to judge responses.

Total Estimated Number of Annual Burden Hours: 1,211 hours.

Respondent's Obligation: Voluntary.

Frequency of Collection: One time.

Total Estimated Annual Nonhour Burden Cost: $2,500.

An agency may not conduct or sponsor and a person is not required to respond to a collection of information unless it displays a currently valid OMB control number.

The authority for this action is the Paperwork Reduction Act of 1995 (44 U.S.C. 3501 et seq.).

John A. Trelease,
Acting Chief, Division of Regulatory Support.

[FR Doc. 2018-10278 Filed 5-14-18; 8:45 am]

BILLING CODE 4310-05-P